DEPARTMENT OF TRANSPORTATION

National Highway Traffic Safety Administration

Petition To Modify an Exemption of a Previously Approved Antitheft Device; Porsche

AGENCY: National Highway Traffic Safety Administration (NHTSA), Department of Transportation (DOT).

ACTION: Grant of a petition to modify an exemption of a previously approved antitheft device.

SUMMARY: On December 22, 1995, the National Highway Traffic Safety Administration (NHTSA) granted in full, Porsche Cars North America, Inc.'s (Porsche) petition for an exemption in accordance with § 543.9(c)(2) of 49 CFR part 543, Exemption from the Theft Prevention Standard for the Porsche Boxster vehicle line, beginning with model year (MY) 1997. On February 1, 2012, Porsche submitted a petition to modify its previously approved exemption for the Porsche Boxster vehicle line and notified the agency that all new successor models within the Boxster line will be installed with the proposed antitheft device beginning with MY 2013. NHTSA is granting Porsche's petition to modify the exemption in full, because it has determined that the modified device is also likely to be as effective in reducing and deterring motor vehicle theft as compliance with the parts-marking requirements of the Theft Prevention Standard.

DATES: The exemption granted by this notice is effective beginning with the 2013 MY.

FOR FURTHER INFORMATION CONTACT: Deborah Mazyck, Office of International Policy, Fuel Economy and Consumer Standards, NHTSA, 1200 New Jersey Avenue SE., West Building, W43-443, Washington, DC 20590. Ms. Mazyck's telephone number is (202) 366-4139. Her fax number is (202) 493-2990.

SUPPLEMENTARY INFORMATION: On December 22, 1995, NHTSA published in the Federal Register a notice granting in full, a petition from Porsche for an exemption from the parts-marking requirements of the Theft Prevention Standard (49 CFR part 541) for a vehicle line whose nameplate and model year were confidential, but subsequently provided as the Porsche Boxster vehicle line. The Boxster vehicle line has been exempted from the Theft Prevention Standard beginning with its MY 1997 vehicles (See 60 FR 66575). On February 1, 2012, Porsche submitted a petition to modify the previously approved exemption for the Boxster vehicle line. This notice grants in full Porsche's petition to modify the exemption for the Boxster vehicle line. Porsche's submission is a complete petition, as required by 49 CFR 543.9(d), in that it meets the general requirements contained in 49 CFR 543.5 and the specific content requirements of 49 CFR 543.6. Porsche's petition provided a detailed description and diagram of the identity, design and location of the components of the antitheft device proposed for installation beginning with the 2013 model year.

The current antitheft device (MYs 1997-2012) installed on the Porsche Boxster vehicle line is a passive, microprocessor-based device which includes a starter interrupt function, transponder key and a central-locking system. Porsche also offers a remote-controlled audible and visible alarm system as optional equipment to its current device.

Porsche stated that its current antitheft device is activated by removing the key from the vehicle's ignition switch/steering lock. By removing the key, the ignition switch returns the system to its normal “OFF” state where starting the engine and operation of the vehicle is prohibited. Porsche stated that the key contains a radio signal transponder which signals the control unit to allow the engine to start when the correct key is inserted into the ignition switch.

Porsche further stated that the optional alarm system on the vehicle line monitors the doors, hood, rear decklid, glove compartment or radio contact switch and if any of the areas are breached, the horn will sound and the lights will flash.

In Porsche's petition to modify its exemption for MY 2013, it stated that the Boxster vehicle line will be modified to include the antitheft device and strategies used for the Panamera vehicle line. The Panamera vehicle line has been granted a parts-marking exemption since MY 2010 (See 74 FR 18037, April 20, 2009). However, Porsche was granted a modification to its previously approved exemption for the Panamera vehicle line beginning with its MY 2012 vehicles (See 75 FR 22174, April 27, 2010). Specifically, in its MY 2012 modification, Porsche proposed to remove the steering column lock on the Panamera line, because it considered the feature to be a redundant function that is also offered by the electronic parking brake which is installed as standard equipment on the line. The electronically activated parking brake will also be included as standard equipment on the MY 2013 Boxster line. Porsche also made special mention that the agency recently granted its MY 2012 request to modify the previously approved exemption for the 911 vehicle line for also having adopted the Panamera antitheft device and strategies (See 76 FR 69321, November 8, 2011).

For MY 2013, Porsche will install its passive, transponder-based electronic, engine-immobilizer antitheft device as standard equipment on its Porsche Boxster vehicle line. Porsche stated that the antitheft system consists of two major subsystems: a microprocessor-based immobilizer device that prevents the engine management system from functioning when the system is engaged, and a central locking and alarm system. Key components of the modified antitheft device will include an electronic ignition switch, transponder key, remote control unit, transponder, alarm/central locking control unit, key or keyless entry system, an engine control unit, electronic parking brake and an off-board antitheft strategy.

Porsche stated that the immobilizer device is automatically activated when the driver removes the key from the ignition switch assembly or the optional special keyless entry keycard exits the vehicle with the driver. The key contains a radio signal transponder which signals the control unit to allow the engine to be started. Porsche stated that as an option, a keyless entry device can be provided for the Boxster vehicle line. Porsche stated that the antitheft device will remain the same, but the ignition key is substituted with a special key that contains a radio signal transmitter similar to that in the standard ignition key. The immobilizer system is automatically activated after the engine is turned off with the optional keyless entry device. Porsche stated that only by inserting the correct key into the ignition switch or by having the special keyless entry device within the compartment of the car, will the correct signal be sent to the control unit allowing start and operation of the engine. When the key is removed from the ignition or the keyless entry key is removed from the vehicle, the device will return to its normal “OFF” state disallowing engine start and operation.

The central locking system works in conjunction with the audible and visible alarm system. Porsche will continue to offer a central locking system as standard equipment on the Boxster vehicle line. The previously approved device offered the alarm system as optional equipment. Porsche stated that the 2013 modification for the Boxster vehicle line will include the audible and visible alarm system as standard equipment. Porsche stated that the alarm system will continue to monitor the opening of the doors, rear luggage compartment and front deck lid.

Porsche stated that the proposed central locking and alarm systems can be armed by using the ignition key, the remote control, or a door switch (with the keyless entry option). Porsche stated that when the key or remote control is used to lock the doors, the alarm is armed. With the keyless entry system, either the door switch or the remote control is used instead of a manual key. The proposed alarm system will also monitor interior movement within the vehicle through an ultrasonic sensor. If any violation of these areas is detected, the horn will sound and the lights will flash.

In Porsche's petition to modify its exemption, it stated that for 2013, the Boxster will be modified to accommodate the introduction of the electronically activated parking brake. Porsche stated that if the control unit does not receive the correct signal from the key or keyless entry system, the parking brake will remain activated and the vehicle cannot be towed away.

Porsche stated that another additional theft prevention feature to the Boxster vehicle line will be the implementation of a new off-board antitheft strategy, making it impossible to use stolen electronic control units to repair other Porsche vehicles. Porsche stated that the goal of the off-board theft protection strategy is to reduce the marketability of stolen electronic components. Porsche believes its off-board antitheft strategy is similar in concept to parts marking, and will further reduce the demand for stolen Porsche vehicle components. Specifically, Porsche explained that during the production process of the vehicle, initialization and registration of various antitheft related electronic components are recorded in a central database. Changes to these components are only possible with authorized on-line access to the central database. Porsche stated that if the components have to be repaired or replaced while authorized access to the central database is unavailable or the central database indicates the components are unauthorized, further operation and use of the vehicle is restricted or even impossible.

In order to ensure the reliability and durability of the device, Porsche conducted tests based on its own specified standards. Porsche provided a detailed list of tests conducted and believes that its device is reliable and durable since the device complied with its specified requirements for each test. The test conducted included extreme temperature tests, voltage spike tests, reverse polarity tests, electromagnetic interference tests, vibration tests and endurance tests. Porsche stated that its antitheft device also features a built-in self-diagnostic that constantly checks for system failures. If a failure is detected, the operator receives a signal via an alarm indicator.

In its MY 2013 modification, Porsche stated that it believes its new Boxster antitheft device will prove to be even more effective in reducing and deterring theft than its antitheft devices have proven in the past. Porsche also compared its device with other devices without alarms that NHTSA has determined to be as effective in reducing and deterring motor vehicle theft. Porsche stated that similar systems without alarms, i.e., GM PASS-Key, Mercedes Benz 202 vehicle line, Porsche Boxster (Cayman) as well as earlier 911 vehicle line devices, were determined to be as effective as parts-marking. Porsche also referenced the agency's theft rate data for the Boxster vehicle line which indicates that its theft rates (MY/CY 2002-2009) are still below the median theft rate of 3.5826. The average theft rates for the Boxster vehicle line (Boxster convertible and Cayman coupe) using the most current 3 MY's theft rate data are 0.3789 and 0.7217, respectively.

The agency has evaluated Porsche's MY 2013 petition to modify the exemption for the Boxster vehicle line from the parts-marking requirements of 49 CFR part 541, and has decided to grant it. The agency believes that the proposed device will continue to provide the five types of performance listed in § 543.6(a)(3): (1) Promoting activation, (2) attracting attention to the efforts of unauthorized persons to enter or operate a vehicle by means other than a key, (3) preventing defeat or circumvention of the device by unauthorized persons, (4) preventing operation of the vehicle by unauthorized entrants and (5) ensuring the reliability and durability of the device.

If Porsche decides not to use the exemption for this line, it should formally notify the agency. If such a decision is made, the line must be fully marked according to the requirements under 49 CFR 541.5 and 541.6 (marking of major component parts and replacement parts).

NHTSA suggests that if the manufacturer contemplates making any changes, the effects of which might be characterized as de minimis, it should consult the agency before preparing and submitting a petition to modify.

Authority: 49 U.S.C. 33106; delegation of authority at 49 CFR 1.50.

Issued on: April 10, 2012.
Christopher J. Bonanti,
Associate Administrator for Rulemaking.

[FR Doc. 2012-8892 Filed 4-12-12; 8:45 am]

BILLING CODE 4910-59-P